DEPARTMENT OF COMMERCE

International Trade Administration

[A-552-833]

Raw Honey From the Socialist Republic of Vietnam: Final Affirmative Determination of Sales at Less Than Fair Value and Final Affirmative Determination of Critical Circumstances

AGENCY: Enforcement and Compliance, International Trade Administration, Department of Commerce.

SUMMARY: The Department of Commerce (Commerce) determines that imports of raw honey from the Socialist Republic of Vietnam (Vietnam) are being, or are likely to be, sold in the United States at less than fair value (LTFV) for the period of investigation (POI) October 1, 2020, through March 31, 2021.

DATES: Applicable April 14, 2022.

FOR FURTHER INFORMATION CONTACT: Jonathan Hill or Paola Aleman Ordaz, AD/CVD Operations, Office IV, Enforcement and Compliance, International Trade Administration, U.S. Department of Commerce, 1401 Constitution Avenue NW, Washington, DC 20230; telephone: (202) 482-3518 or (202) 482-4031, respectively.

SUPPLEMENTARY INFORMATION:

Background

On November 23, 2021, Commerce published the Preliminary Determination in the LTFV investigation of raw honey from Vietnam, in which it also postponed the final determination until April 7, 2022.¹ Additionally, on January 13, 2021, Commerce published the Preliminary Determination of Critical Circumstances in the LTFV investigation of raw honey from Vietnam.² The petitioners in this investigation are the American Honey Producers Association and Sioux Honey Association (collectively, the petitioners). The two mandatory respondents in this investigation are Ban Me Thuot Honeybee Joint Stock Company (Ban Me Thuot) and Daklak Honeybee Joint Stock Company (DakHoney).³ We invited interested parties to comment on the Preliminary Determination.⁴ For a complete summary of the events that occurred since Commerce published the Preliminary Determination, as well as a full discussion of the issues raised by parties for this final determination, see Issues and Decision Memorandum.⁵

¹ See Raw Honey from the Socialist Republic of Vietnam: Preliminary Affirmative Determination of Sales at Less Than Fair Value, Postponement of Final Determination, and Extension of Provisional Measures, 86 FR 66526 (November 23, 2021) (Preliminary Determination) and accompanying Preliminary Decision Memorandum.

² See Raw Honey from the Socialist Republic of Vietnam: Preliminary Affirmative Determination of Critical Circumstances in the Less-Than-Fair-Value Investigation, 87 FR 2127 (January 13, 2022), corrected by Raw Honey from the Socialist Republic of Vietnam: Preliminary Affirmative Determination of Critical Circumstances in the Less-Than-Fair-Value Investigation; Correction, 87 FR 7800 (February 10, 2022) (collectively, Preliminary Critical Circumstances Determination).

³ See Memorandum, “Less-Than-Fair-Value Investigation of Raw Honey from the Socialist Republic of Vietnam: Selection of Mandatory Respondents for Individual Examination,” dated June 15, 2021.

⁴ See Preliminary Determination, 86 FR at 66526.

⁵ See Memorandum, “Issues and Decision Memorandum for the Final Affirmative Determination in the Less-Than-Fair-Value Investigation of Raw Honey from the Socialist Republic of Vietnam,” dated concurrently with, and hereby adopted by, this notice (Issues and Decision Memorandum).

The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Scope of the Investigation

The product covered by this investigation is raw honey from Vietnam. For a full description of the scope of this investigation, see Appendix I.

Scope Comments

Commerce received no comments from interested parties regarding the scope of this investigation. Accordingly, Commerce has not modified the scope language from the Preliminary Determination.

Analysis of Comments Received

All issues raised in the case and rebuttal briefs that were submitted by parties in this investigation are addressed in the Issues and Decision Memorandum. A list of the issues addressed in the Issues and Decision Memorandum is attached to this notice at Appendix II.

Verification

Commerce was unable to conduct on-site verification of the information relied upon in making its final determination in this investigation. However, we took additional steps in lieu of an on-site verification to verify the information relied upon in making this final determination, in accordance with section 782(i) of the Tariff Act of 1930, as amended (the Act).⁶

⁶ See Commerce's Letters, “Supplemental Questionnaire In-Lieu of Onsite Verification,” dated December 6, 2021.

Methodology

Commerce conducted this investigation in accordance with section 731 of the Act. Export price was calculated in accordance with section 772(a) of the Act. Because Vietnam is a non-market economy within the meaning of section 771(18) of the Act, normal value was calculated in accordance with section 773(c) of the Act. For a full description of the methodology underlying Commerce's determination, see the Preliminary Decision Memorandum; see also the Issues and Decision Memorandum.

Vietnam-Wide Entity

For the reasons explained in our Preliminary Determination, we continue to find that neither the Vietnam-wide entity nor any company which is part of the Vietnam-wide entity has failed to cooperate in this investigation. Therefore, in accordance with our practice, to determine the estimated weighted-average dumping margin for the Vietnam-wide entity, Commerce assigns to the Vietnam-wide entity a rate equal to the average of publicly available ranged U.S. sales quantities of the mandatory respondents.

Changes Since the Preliminary Determination

Based on our analysis of the comments received, we made certain changes to the margin calculations for Ban Me Thuot and DakHoney. In light of these changes to the margin calculations and the resulting revised estimated weighted-average dumping margin for Ban Me Thuot and DakHoney, we have also revised the rates assigned to companies eligible for a separate rate and to the Vietnam-wide entity. For a discussion of these changes, see the “Changes Since the Preliminary Determination” section of the Issues and Decision Memorandum, and the Final Analysis Memoranda.⁷

⁷ See Memoranda, “Less-Than-Fair-Value Investigation of Raw Honey from the Socialist Republic of Vietnam: Final Determination Calculations for Ban Me Thuot Honeybee Joint Stock Company,” and “Less-Than-Fair-Value Investigation of Raw Honey from the Socialist Republic of Vietnam: Final Determination Calculations for Ban Me Thuot Honeybee Joint Stock Company,” dated concurrently with this notice (Final Analysis Memoranda).

Final Affirmative Determination of Critical Circumstances

Commerce preliminarily determined that critical circumstances did exist for Ban Me Thuot and DakHoney, the eligible separate rate companies, and the Vietnam-wide entity.⁸ Parties submitted comments regarding our affirmative preliminary critical circumstances determination; see the Issues and Decision Memorandum. For the final determination, in accordance with section 735(a)(3) of the Act and 19 CFR 351.206, Commerce continues to find that critical circumstances do exist for Ban Me Thuot and DakHoney, the eligible separate rate companies, and the Vietnam-wide entity. For a full description of the methodology and results of Commerce's critical circumstances analysis, see the Issues and Decision Memorandum.

⁸ See Preliminary Critical Circumstances Determination.

Separate Rates

No party commented on our preliminary separate rate determinations with respect to the mandatory respondents and the non-individually examined companies. Thus, there is no basis to reconsider the Preliminary Determination with respect to separate rate status for this final determination.

Combination Rates

In the Initiation Notice,⁹ Commerce stated that it would calculate producer/exporter combination rates for the respondents that are eligible for a separate rate in this investigation.¹⁰ For the list of respondents that established eligibility for separate rates and exporter-producer combination rates applicable to these respondents, see the Final Determination section.

⁹ See Raw Honey from Argentina, Brazil, India, Ukraine, and the Socialist Republic of Vietnam: Initiation of Less-Than-Fair-Value Investigation, 86 FR 26897 (May 18, 2021) (Initiation Notice).

¹⁰ See Enforcement and Compliance's Policy Bulletin No. 05.1, regarding, “Separate-Rates Practice and Application of Combination Rates in Antidumping Investigations involving Non-Market Economy Countries,” dated April 5, 2005, available at http://enforcement.trade.gov/policy/bull05-1.pdf.

Final Determination

Commerce determines that the final estimated weighted-average dumping margins are as follows:

Producer | Exporter | Estimated weighted- average dumping margin (percent)
Ban Me Thuot Honeybee Joint Stock Company | Ban Me Thuot Honeybee Joint Stock Company | 61.27
Daklak Honeybee Joint Stock Company | Daklak Honeybee Joint Stock Company | 58.74
Dak Nguyen Hong Exploitation of Honey Company Limited TA, Nguyen Hong Honey Co., LTDTA | Dak Nguyen Hong Exploitation of Honey Company Limited TA, Nguyen Hong Honey Co., LTDTA | 60.03
Nhieu Loc Company Limited | Nhieu Loc Company Limited | 60.03
Hoang Tri Honey Bee Company Limited (a.k.a. Hoang Tri Honey Bee Co., Ltd), H. T Honey Co., Ltd | Hoang Tri Honey Bee Company Limited (a.k.a. Hoang Tri Honey Bee Co., Ltd), H. T Honey Co., Ltd | 60.03
Viet Thanh Food Technology Development Investment Company Limited, Viet Thanh Food Co., Ltd | Viet Thanh Food Technology Development Investment Company Limited, Viet Thanh Food Co., Ltd | 60.03
Dongnai HoneyBee Corporation | Dongnai HoneyBee Corporation | 60.03
Sai Gon Bees Limited Company, Saigon Bees Co., Ltd., Sai Gon Bees Co., Ltd | Sai Gon Bees Limited Company, Saigon Bees Co., Ltd., Sai Gon Bees Co., Ltd | 60.03
Huong Rung Trading—Investment and Export Company, Huong Rung Co., Ltd | Huong Rung Trading—Investment and Export Company, Huong Rung Co., Ltd | 60.03
Hai Phong Honeybee Company Limited | Hai Phong Honeybee Company Limited | 60.03
Bao Nguyen Honeybee Co., Ltd | Bao Nguyen Honeybee Co., Ltd | 60.03
Southern Honey Bee Company LTD | Southern Honey Bee Company LTD | 60.03
Golden Bee Company Limited | Golden Bee Company Limited | 60.03
Thanh Hao Bees Company Limited | Thanh Hao Bees Company Limited | 60.03
Daisy Honey Bee Joint Stock Company, Daisy Honey Bee JSC, Daisy Honey Bee J.S.C | Daisy Honey Bee Joint Stock Company, Daisy Honey Bee JSC, Daisy Honey Bee J.S.C | 60.03
Bee Honey Corporation of Ho Chi Minh City, Bee Honey Corp. of Ho Chi Minh City, Behonex Corp | Bee Honey Corporation of Ho Chi Minh City, Bee Honey Corp. of Ho Chi Minh City, Behonex Corp | 60.03
Phong Son Limited Company, Phong Son Co., Ltd | Phong Son Limited Company, Phong Son Co., Ltd | 60.03
Hoa Viet Honeybee One Member Company Limited, Hoa Viet Honey Bee Co., Ltd., Hoa Viet Honeybee Co., Ltd | Hoa Viet Honeybee One Member Company Limited, Hoa Viet Honey Bee Co., Ltd., Hoa Viet Honeybee Co., Ltd | 60.03
Vietnam-wide Entity | Vietnam-wide Entity | 60.03

Disclosure

Commerce intends to disclose to interested parties under Administrative Protective Order (APO), the calculations performed in connection with this final determination within five days of its public announcement or, if there is no public announcement, within five days of the date of publication of the notice of final determination in the Federal Register, in accordance with 19 CFR 351.224(b).

Continuation of Suspension of Liquidation

In accordance with section 735(c)(4)(A) of the Act, because we continue to find that critical circumstances exist, Commerce will instruct U.S. Customs and Border Protection (CBP) to continue to suspend liquidation of all appropriate entries of raw honey from Vietnam, as described in Appendix I of this notice, which were entered, or withdrawn from warehouse, for consumption on or after August 25, 2021, which is 90 days prior to the date of publication of the affirmative Preliminary Determination in the Federal Register.

Pursuant to section 735(c)(1)(B)(ii) of the Act and 19 CFR 351.210(d), upon publication of this notice, Commerce will instruct CBP to require a cash deposit for estimated antidumping duties for such entries as follows: (1) For the exporter/producer combinations listed in the table above, the cash deposit rate is equal to the estimated weighted-average dumping margin listed for that combination in the table; (2) for all combinations of Vietnamese exporters/producers not listed in the above table, the cash deposit rate is equal to the estimated weighted-average dumping margin listed in the table for the Vietnam-wide entity; and (3) for all third-country exporters, the cash deposit rate is equal to the cash deposit rate applicable to the Vietnamese exporter/producer combination (or the Vietnam-wide entity) that supplied that third-country exporter. These suspension of liquidation instructions will remain in effect until further notice.

International Trade Commission (ITC) Notification

In accordance with section 735(d) of the Act, Commerce will notify the ITC of the final affirmative determination of sales at LTFV. Because the final determination is affirmative, in accordance with section 735(b)(2)(B) of the Act, the ITC will make its final determination as to whether the domestic industry in the United States is materially injured, or threatened with material injury, no later than 45 days after this final determination. If the ITC determines that material injury or threat of material injury does not exist, this proceeding will be terminated, and all cash deposited will be refunded. If the ITC determines that material injury or threat of material injury does exist, Commerce will issue an antidumping duty order directing CBP to assess, upon further instruction by Commerce, antidumping duties on all imports of the subject merchandise entered, or withdrawn from warehouse, for consumption on or after the effective date of the suspension of liquidation.

Notification Regarding APO

This notice serves as a reminder to the parties subject to APO of their responsibility concerning the disposition of propriety information disclosed under APO in accordance with 19 CFR 351.305(a)(3). Timely written notification of the return or destruction of APO materials or, alternatively, conversion to judicial protective order, is hereby requested. Failure to comply with the regulations and terms of an APO is a violation that is subject to sanction.

Notification to Interested Parties

This determination is issued and published pursuant to sections 735(d) and 777(i)(1) of the Act, and 19 CFR 351.210(c).

Dated: April 7, 2022.
Lisa W. Wang,
Assistant Secretary for Enforcement and Compliance.

Appendix I—Scope of the Investigation

The merchandise covered by this investigation is raw honey. Raw honey is honey as it exists in the beehive or as obtained by extraction, settling and skimming, or coarse straining. Raw honey has not been filtered to a level that results in the removal of most or all of the pollen, e.g., a level that removes pollen to below 25 microns. The subject products include all grades, floral sources and colors of raw honey and also include organic raw honey.

Excluded from the scope is any honey that is packaged for retail sale (e.g., in bottles or other retail containers of five (5) lbs. or less).

The merchandise subject to this investigation is currently classifiable under statistical subheading 0409.00.0005, 0409.00.0035, 0409.00.0045, 0409.00.0056, and 0409.00.0065 of the Harmonized Tariff Schedule of the United States (HTSUS). Although the HTSUS subheadings are provided for convenience and customs purposes, the written description of the scope of this investigation is dispositive.

Appendix II—List of Topics Discussed in the Issues and Decision Memorandum

I. Summary

II. Background

III. Final Affirmative Determination of Critical Circumstances

IV. Changes Since the Preliminary Determination

V. Discussion of the Issues

Comment 1: The Appropriate Surrogate Value (SV) for Raw Honey

Comment 2: The Appropriate SV for New and Refurbished Drums

Comment 3: The Appropriate Financial Statements

Comment 4: Whether to Make Certain Adjustments to the Surrogate Financial Statements

Comment 5: Whether Commerce Should Establish a Comments Schedule to Submit Factual Information to Rebut the Critical Circumstances Allegation

Comment 6: Whether Commerce Should Include the Trade Names of the Separate Rate Companies

Comment 7: Whether Commerce Should Adjust Ban Me Thuot's Gross Unit Price by its Reported Testing Expenses

Comment 8: Whether Commerce Should Include DakHoney's Consumption of Unpainted Drums in the Calculation of DakHoney's Raw Material Cost

Comment 9: Whether Commerce Should Treat Certain Claimed Discounts as Warranty Expenses

Comment 10: Whether to Make an Adjustment to Raw Honey Consumption Factors

VI. Recommendation

[FR Doc. 2022-07993 Filed 4-13-22; 8:45 am]

BILLING CODE 3510-DS-P